DEPARTMENT OF COMMERCE

National Oceanic and Atmospheric Administration

RIN 0648-XV071

North Pacific Fishery Management Council; Public Meeting

AGENCY: National Marine Fisheries Service (NMFS), National Oceanic and Atmospheric Administration (NOAA), Commerce.

ACTION: Notice of a public meeting.

SUMMARY: The North Pacific Fishery Management Council (Council) Legislative Committee will meet in October.

DATES: The meeting will be held on Wednesday, October 2, 2019, from 3 p.m. to 5 p.m.

ADDRESSES: The meeting will be held at the Land's End Resort, 4786 Homer Spit Rd, Homer, AK 99603.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION:

Agenda

The agenda will include updates on legislation, including HR 1979 and HR 2236, and development of recommendations for the Council.

The Agenda is subject to change, and the latest version will be posted at meetings.npfmc.org/Meeting/Details/923.

Public Comment

Public comment letters will be accepted and should be submitted either electronically at: meetings.npfmc.org/Meeting/Details/923 or through the mail: North Pacific Fishery Management Council, 605 W. 4th Ave., Suite 306, Anchorage, AK 99501-2252. Deadline for comments is September 27, 2019, at 12 p.m.

Special Accommodations

The meeting is physically accessible to people with disabilities. Requests for sign language interpretation or other auxiliary aids should be directed to Shannon Gleason at (907) 271-2809 at least 7 working days prior to the meeting date.

Authority: 16 U.S.C. 1801 et seq.

Dated: September 11, 2019.
Tracey L. Thompson,
Acting Deputy Director, Office of Sustainable Fisheries, National Marine Fisheries Service.

[FR Doc. 2019-19962 Filed 9-13-19; 8:45 am]

BILLING CODE 3510-22-P